DEPARTMENT OF ENERGY

[OE Docket No. PP-334-1]

Application To Amend Presidential Permit; Energia Sierra Juarez U.S. Transmission, LLC

AGENCY: Office of Electricity, Department of Energy.

ACTION: Notice of application.

SUMMARY: Energia Sierra Juarez U.S. Transmission, LLC (the Applicant or ESJ) has filed an application to amend Presidential Permit No. PP-334-1. ESJ is requesting the amendment to increase the rate of electric transmission of the previously permitted facilities.

DATES: Comments, protests, or motions to intervene must be submitted on or before September 9, 2022.

ADDRESSES: Comments or motions to intervene should be addressed to Christopher Lawrence, Christopher.Lawrence@hq.doe.gov OE-20, 1000 Independence Ave. SW, Washington, DC 20585

FOR FURTHER INFORMATION CONTACT: Christopher Lawrence (Program Office) at (202) 586-5260 or by email to Christopher.Lawrence@hq.doe.gov, or James Ralph (Attorney-Adviser) at (240) 474-1140 or by email to James.Ralph@hq.doe.gov.

SUPPLEMENTARY INFORMATION: The construction, operation, maintenance, and connection of facilities at the international border of the United States for the transmission of electric energy between the United States and a foreign country is prohibited in the absence of a Presidential permit issued pursuant to Executive Order (E.O.) 10485, as amended by E.O. 12038.

On May 18, 2022, ESJ filed an application with the Office of Electricity of the Department of Energy (DOE), as required by regulations at 10 CFR 205.320 et seq., requesting that DOE amend Presidential Permit No. PP-334 to increase the rate of transmission over ESJ's operating electric power generation tie line (ESJ Tie Line).

On August 31, 2012, DOE issued Presidential Permit No. PP-334, authorizing ESJ to construct, operate, maintain, and connect the ESJ Project (Project). As described in PP-334, the Project is a double-circuit 230-kV electric transmission line originating at San Diego Gas and Electric Company's planned East County (ECO) Substation in San Diego County, interconnecting with the Imperial Valley-Miguel segment of the Southwest Powerlink, extending approximately 0.65 miles southward, crossing the U.S.-Mexico border near Jacumba, California. At the border, the ESJ Tie Line transitions to a generation tie line constructed and operated by Energia Sierra Juarez, S. de R. L. de C.V. (ESJ Mexico), a Mexican affiliate of ESJ, which extends approximately 1 mile farther south to an interconnection point for a wind generating facility in Mexico (ESJ Wind Project) owned and operated by ESJ Mexico.

The ESJ Tie Line commenced commercial operation in June of 2015, and ESJ has been operating the ESJ Tie Line in accordance with PP-334 since that time to transmit power from the initial phase of the ESJ Wind Project generating facilities in Mexico to the electric grid in California at the ECO Substation. The ESJ Tie Line has the thermal capacity to transmit up to 1250 megawatts (MW of electricity, corresponding to the total potential generating capacity of the ESJ Wind Project. The ESJ Wind Project was to be developed in several phases. At the time PP-334 was issued in 2012, the California Independent System Operator (CAISO) had completed a generation interconnection study only for the first 400 MW of generation from the ESJ Wind Project. As a result, PP-334 included a provision limiting the maximum non-simultaneous rate of transmission over the ESJ Tie Line to 400 MW.

Article 4 of PP-334 stated that ESJ may apply for a modification to the permit to increase the authorized rate of transmission at such time as CAISO completes interconnection studies for power generated by the ESJ Wind Project greater than 400 MW.

In accordance with Article 4 of PP-334, ESJ is now requesting a modification to the permit to increase the maximum authorized rate of transmission over the ESJ Tie Line to 700 MW based on the CAISO interconnection study for Cimarron Wind, which is expected to add another 300 MW of generation. The proposed increase in the rate of transmission requires no physical modifications to the ESJ Tie Line.

Procedural Matters: Any person may comment on this application by filing such comment at the address provided above. Each comment should be clearly marked with OE Docket No. PP-334-1. Consideration of comments is limited to those addressing the subject of the proposed amendment. Any person seeking to become a party to this proceeding must file a motion to intervene at the address provided above in accordance with Rule 214 of FERC's Rules of Practice and Procedure (18 CFR 385.214). Two copies of each comment or motion to intervene should be filed with DOE on or before the date listed above.

Additional copies of such comments and motions to intervene also should be filed directly with: Emily C. Shults, Senior Vice President—Development, Energia Sierra Juarez U.S., LLC, 488 8th Avenue, San Diego, CA 92101, eshults@sempraglobal.com, and

Eric J. Murdock, Partner, Hunter Andrews Kurth LLP, N 2200 Pennsylvania Ave. NW, Washington, DC 20037, emurdock@hunton.com.

Before a Presidential permit may be issued or amended, DOE must determine that the proposed action is in the public interest. In making that determination, DOE may consider the environmental impacts of the proposed action (i.e., granting the Presidential permit or amendment, with any conditions and limitations, or denying the permit), determine the proposed project's impact on electric reliability by ascertaining whether the proposed project would adversely affect the operation of the U.S. electric power supply system under normal and contingency conditions, and weigh any other factors that it may also deem relevant to the public interest. DOE also must obtain the favorable recommendation of the Secretary of State and the Secretary of Defense before taking final action on a Presidential permit application.

This application may be reviewed or downloaded electronically at https://www.energy.gov/oe/pending-applications.

Signed in Washington, DC, on August 5, 2022.
Christopher Lawrence,
Management and Program Analyst, Electricity Delivery Division, Office of Electricity.

[FR Doc. 2022-17188 Filed 8-9-22; 8:45 am]

BILLING CODE 6450-01-P